DEPARTMENT OF TRANSPORTATION

Federal Aviation Administration

14 CFR Part 39

[Docket No. FAA-2012-0996; Directorate Identifier 2011-NM-040-AD; Amendment 39-17202; AD 2012-19-07]

RIN 2120-AA64

Airworthiness Directives; Airbus Airplanes

AGENCY: Federal Aviation Administration (FAA), Department of Transportation (DOT).

ACTION: Final rule; request for comments.

SUMMARY: We are adopting a new airworthiness directive (AD) for certain Airbus Model A340-500 and -600 series airplanes. This AD requires repetitive inspections for corrosion of the drag stay lower arm assembly of the nose landing gear (NLG), and replacement if necessary. This AD also requires eventual replacement of the drag stay lower arm assembly of the NLG with an improved assembly having corrosion protection, which terminates the repetitive inspections required by this AD. This AD was prompted by findings of corrosion traces in the lugs and on the bearing outer surface of the NLG during routine maintenance checks. We are issuing this AD to prevent failure of the drag stay lower arm, which could result in NLG collapse and consequent reduced controllability of the airplane during takeoff.

DATES: This AD becomes effective October 16, 2012.

The Director of the Federal Register approved the incorporation by reference of certain publications listed in the AD as of October 16, 2012.

We must receive comments on this AD by November 15, 2012.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, Washington 98057-3356; telephone (425) 227-1138; fax (425) 227-1149.

SUPPLEMENTARY INFORMATION:

Discussion

The European Aviation Safety Agency (EASA), which is the Technical Agent for the Member States of the European Community, has issued EASA Airworthiness Directive (AD) 2010-0214, dated November 2, 2010 (referred to after this as “the MCAI”), to correct an unsafe condition for the specified products. The MCAI states:

Several NLG drag stay lower arms on A340-500/-600 aeroplanes have exhibited corrosion and rust traces in the lugs and on the bearing outer surface, discovered visually during scheduled maintenance checks or aeroplane walk-around.

Investigation has revealed that this corrosion of the drag stay lower arm can be due to:

—the damage to the sealant applied on the external interface between the lug bore and the bearing race,

—the ingress of contaminants and moisture between the lug bore and bearing race,

—the degradation of the Cadmium plating by chemical phenomena,

—the degradation of the Cadmium plating by mechanical phenomena.

The failure of the drag stay lower arm may result in NLG collapse, which would constitute an unsafe condition during the take off phase.

For the above described reasons, this [EASA] AD requires:

—repetitive inspections of the NLG drag stay lower arm assembly part number (P/N) 30-1018002-01 at the interface between the arm and the spherical bearing races, for identification of corrosion traces, and replacement of the NLG drag stay lower arm assembly in case of findings, and

—Replacement of the affected NLG drag stay lower arm assembly by a new or modified part with an improved corrosion protection, as a terminating action of the requirements of this [EASA] AD.

You may obtain further information by examining the MCAI in the AD docket.

Relevant Service Information

Airbus has issued Mandatory Service Bulletins A340-32-5099, dated September 23, 2010; and A340-32-5101, dated October 20, 2010. The actions described in this service information are intended to correct the unsafe condition identified in the MCAI.

FAA's Determination and Requirements of this AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

There are no products of this type currently registered in the United States. However, this rule is necessary to ensure that the described unsafe condition is addressed if any of these products are placed on the U.S. Register in the future.

Difference Between the AD and the MCAI or Service Information

This AD differs from the MCAI and/or service information as follows: The MCAI and the service information include a reporting requirement. This AD does not require reporting of the inspection results to the airplane manufacturer.

FAA's Determination of the Effective Date

Since there are currently no domestic operators of this product, notice and opportunity for public comment before issuing this AD are unnecessary.

Comments Invited

This AD is a final rule that involves requirements affecting flight safety, and we did not precede it by notice and opportunity for public comment. We invite you to send any written relevant data, views, or arguments about this AD. Send your comments to an address listed under the ADDRESSES section. Include “Docket No. FAA-2012-0996; Directorate Identifier 2011-NM-040-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2012-19-07 Airbus: Amendment 39-17202. Docket No. FAA-2012-0996; Directorate Identifier 2011-NM-040-AD.

(a) Effective Date

This airworthiness directive (AD) becomes effective October 16, 2012.

(b) Affected ADs

None.

(c) Applicability

This AD applies to Airbus Model A340-541 and -642 airplanes; certificated in any category; all manufacturer serial numbers; weight variant (WV) 000, WV001, WV002, WV003, and WV004.

(d) Subject

Air Transport Association (ATA) of America Code 32, Landing gear.

(e) Reason

This AD was prompted by findings of corrosion and rust traces in the lugs and on the bearing outer surface of the nose landing gear (NLG) during routine maintenance checks. We are issuing this AD to prevent failure of the drag stay lower arm, which could result in NLG collapse and consequent reduced controllability of the airplane during takeoff.

(f) Compliance

You are responsible for having the actions required by this AD performed within the compliance times specified, unless the actions have already been done.

(g) Initial and Repetitive General Visual Inspections/Corrective Action

(1) At the applicable compliance time specified in table 1 to paragraph (g) of this AD: Do a general visual inspection of the drag stay lower arm assembly having part number (P/N) 30-1018002-01 of the NLG at the interface between the arm and the spherical bearing races for corrosion traces, in accordance with the Accomplishment Instructions of Airbus Mandatory Service Bulletin A340-32-5099, dated September 23, 2010.

Table 1 to Paragraph (g) of This AD—Compliance Time
Age of NLG drag stay lower arm assembly as of the effective date of this AD since its first installation on any airplane, or since last NLG overhaul, or last P/N 30-1018002-01 replacement, whichever occurs latest | Compliance time since first installation of the NLG drag stay lower arm assembly on any airplane, or since last NLG overhaul, or since last P/N 30-1018002-01 replacement, whichever occurs latest
Less than 36 months | Before the accumulation of 45 months.
36 months or more, but less than 45 months | Before the accumulation of 52 months, or within 9 months after the effective date of this AD, whichever occurs first.
45 months or more, but less than 60 months | Before the accumulation of 65 months, or within 7 months after the effective date of this AD, whichever occurs first.
60 months or more, but less than 72 months | Before the accumulation of 75 months, or within 5 months after the effective date of this AD, whichever occurs first.
72 months or more, but less than 84 months | Before the accumulation of 85 months, or within 3 months after the effective date of this AD, whichever occurs first.
84 months or more | Within 1 month after the effective date of this AD.

(2) If no corrosion traces are found during the inspection required by paragraph (g)(1) of this AD: Repeat the inspection thereafter at intervals not to exceed 6 months.

(3) If any corrosion traces are found during any inspection required by paragraph (g)(1), (g)(2), or (g)(4) of this AD: At the applicable time after the inspection specified in table 2 to paragraph (g)(3) of this AD, replace the NLG drag stay lower arm assembly with a new or serviceable assembly, in accordance with the Accomplishment Instructions of Airbus Mandatory Service Bulletin A340-32-5099, dated September 23, 2010.

Table 2 to Paragraph (g)(3) of This AD—Replacement Compliance Time
As of the date of accomplishing the inspection required by paragraph (g)(1) or (g)(2) of this AD: Age of NLG drag stay lower arm assembly, since its first installation on any airplane, or since last NLG overhaul, or last P/N 30-1018002-01 replacement— | Then, after the inspection, replace—
More than 85 months and on which no inspection has been performed during the last 6 months | Within 5 flight cycles.
65 months or more but 85 months or less, and on which no inspection has been performed during the last 6 months | Within 1 month.
More than 64 months and on which an inspection has been performed during the last 6 months | Within 3 months.
Less than 65 months | Within 3 months.

(4) Within 45 months after each replacement of the NLG drag stay lower arm assembly: Perform the initial inspection required by paragraph (g)(1) of this AD, in accordance with the Accomplishment Instructions of Airbus Mandatory Service Bulletin A340-32-5099, dated September 23, 2010. Repeat the inspection thereafter at intervals not to exceed 6 months.

(h) Terminating Action

Within 10 years after the effective date of this AD: Replace the NLG drag stay lower arm assembly with a serviceable assembly having improved corrosion protection, in accordance with the Accomplishment Instructions of Airbus Mandatory Service Bulletin A340-32-5101, dated October 20, 2010. Accomplishing this replacement terminates the inspections required by paragraph (g) of this AD.

(i) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, Washington 98057-3356; telephone (425) 227-1138; fax (425) 227-1149: Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(j) Related Information

Refer to Mandatory Continuing Airworthiness Information (MCAI) EASA Airworthiness Directive 2010-0214, dated November 2, 2010, and the service information specified in paragraphs (j)(1) and (j)(2) of this AD, for related information.

(1) Airbus Mandatory Service Bulletin A340-32-5099, dated September 23, 2010.

(2) Airbus Mandatory Service Bulletin A340-32-5101, dated October 20, 2010.

(k) Material Incorporated by Reference

(1) The Director of the Federal Register approved the incorporation by reference (IBR) of the following service information under 5 U.S.C. 552(a) and 1 CFR part 51.

(2) You must use the following service information to do the actions required by this AD, unless the AD specifies otherwise.

(i) Airbus Mandatory Service Bulletin A340-32-5099, dated September 23, 2010.

(ii) Airbus Mandatory Service Bulletin A340-32-5101, dated October 20, 2010.

(3) For service information identified in this AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com.

(4) You may review copies of the service information at the FAA, Transport Airplane Directorate, 1601 Lind Avenue SW., Renton, Washington. For information on the availability of this material at the FAA, call 425-227-1221.

(5) You may also review copies of the service information that is incorporated by reference at the National Archives and Records Administration (NARA). For information on the availability of this material at an NARA facility, call 202-741-6030, or go to http://www.archives.gov/federal-register/cfr/ibr-locations.html.

Issued in Renton, Washington on September 12, 2012.
Ali Bahrami,
Manager, Transport Airplane Directorate, Aircraft Certification Service.

[FR Doc. 2012-23393 Filed 9-28-12; 8:45 am]

BILLING CODE 4910-13-P